DEPARTMENT OF LABOR

Veterans' Employment and Training Service

Homeless Veterans' Reintegration Into Employment

AGENCY: Veterans' Employment and Training Service, Department of Labor.

Announcement Type: New Notice of Availability of Funds and Solicitation for Grant Applications. The full announcement is posted on http://www.grants.gov.

Funding Opportunity Number: SGA 11-01.

Key Dates: The closing date for receipt of applications is 30 DAYS AFTER PUBLICATION via http://www.grants.gov .

Funding Opportunity Description

On October 13, 2010, President Barack Obama signed the Veterans' Benefits Act of 2010 (Pub. L. 111-275). Section 201 reauthorizes the Homeless Veterans Reintegration Program through fiscal year (FY) 2011 and indicates: “The Secretary of Labor shall conduct, directly or through grant or contract, such programs as the Secretary determines appropriate to provide job training, counseling, and placement services (including job readiness and literacy and skills training) to expedite the reintegration of homeless veterans into the labor force.”

HVRP grants are intended to address two objectives: (1) To provide services to assist in reintegrating homeless veterans into meaningful employment within the labor force, and (2) to stimulate the development of effective service delivery systems that will address the complex problems facing homeless veterans.

The full Solicitation for Grant Application is posted on http://www.grants.gov under U.S. Department of Labor/VETS. Applications submitted through http://www.grants.gov or hard copy will be accepted. If you need to speak to a person concerning these grants, you may telephone Cassandra Mitchell at 202-693-4570 (not a toll-free number). If you have issues regarding access to the http://www.grants.gov Web site, you may telephone the Contact Center Phone at 1-800-518-4726.

Signed at Washington, DC this 3rd day of June, 2011.
Cassandra R. Mitchell,
Grant Officer.

[FR Doc. 2011-14277 Filed 6-8-11; 8:45 am]

BILLING CODE 4510-79-P